DEPARTMENT OF DEFENSE

Office of the Secretary

Meeting of the Historical Advisory Committee

AGENCY: Department of Defense.

ACTION: Notice of open meeting.

SUMMARY: In accordance with the provisions of the Federal Advisory Committee Act, this notice announces a meeting of the Department of Defense Historical Advisory Committee. The committee will discuss the report and recommendations of the Secretary of the Navy's Advisory Subcommittee on Naval History. The meeting will be open to the public.

DATES: Wednesday, November 5, 2008 at 10 a.m.

ADDRESSES: The meeting will be held on the 15th Floor, Room 2, 1777 North Kent Street, Arlington, Virginia 22209.

FOR FURTHER INFORMATION CONTACT: Ms. Carolyn Thorne at 703-588-7890 or Ms. Pamela Bennett at 703-588-7889 for information or upon arrival at the building in order to be admitted.

Dated: October 7, 2008.
Patricia L. Toppings,
OSD Federal Register Liaison Officer, Department of Defense.

[FR Doc. E8-24482 Filed 10-14-08; 8:45 am]

BILLING CODE 5001-06-P